ENVIRONMENTAL PROTECTION AGENCY

40 CFR Part 141

[FRL-6544-7]

Unregulated Contaminant Monitoring Regulation for Public Water Systems; Analytical Methods for Perchlorate and Acetochlor; Announcement of Laboratory Approval and Performance Testing (PT) Program for the Analysis of Perchlorate

AGENCY: Environmental Protection Agency.

ACTION: Proposed rule.

SUMMARY: The Safe Drinking Water Act (SDWA), as amended in 1996, requires the U.S. Environmental Protection Agency to establish criteria for a program to monitor unregulated contaminants and to publish a list of contaminants to be monitored. In fulfillment of this requirement, EPA published the Revisions to the Unregulated Contaminant Monitoring Rule (UCMR) on September 17, 1999 (64 FR 50556) which included a list of contaminants to be monitored.

Both perchlorate and acetochlor were placed on the UCMR (1999) List 1, Assessment Monitoring, with the method listed as “Reserved” pending imminent conclusion of EPA refinement and review of the analytical methods for perchlorate and acetochlor. In this issue of the Federal Register, EPA is revising the UCMR by promulgating analytical methods for the measurement of perchlorate and acetochlor in drinking water as a direct final rule without prior proposal because EPA views this as a noncontroversial revision and anticipates no adverse comment. EPA has addressed the regulatory text and explained the authority, purpose, and rationale for the rule and the Agency's compliance with the laws and executive orders affecting rulemaking in the preamble to the direct final rule. If EPA receives no adverse comment, it will not take further action on this proposed rule. If EPA receives adverse comment, the Agency will withdraw the direct final rule and it will not take effect. EPA would then address all public comments in a subsequent final rule based on this proposed rule. EPA will not institute a second comment period on this action. Any parties interested in commenting must do so at this time.

DATES: Comments must be received in writing by April 3, 2000.

ADDRESSES: Send written comments to the Comment Clerk, docket number W-99-19, Water Docket (MC 4101), U.S. EPA, 401 M Street, SW, Washington, DC 20460. Please submit an original and three copies of your comments and enclosures (including references).

The full record for this document has been established under docket number W-99-19 and includes supporting documentation as well as printed, paper versions of electronic comments. The full record is available for inspection from 9 a.m. to 4 p.m., Monday through Friday, excluding legal holidays, at the Water Docket, East Tower Basement, U.S. EPA, 401 M Street, SW, Washington, DC. For access to docket (Docket No. W-99-19) materials, please call (202) 260-3027 between 9 a.m. and 3:30 p.m., Eastern Time, Monday through Friday, to schedule an appointment. A reasonable fee may be charged for copying.

FOR FURTHER INFORMATION CONTACT: Rachel Sakata, Standards and Risk Management Division, U.S. Environmental Protection Agency, 401 M Street (MC 4607), Washington, DC 20460, (202) 260-2527. For technical information regarding the methods contact David Munch, Technical Support Center, U.S. Environmental Protection Agency, 26 W. Martin Luther King Dr., Cincinnati OH, 45268, (513) 569-7843. General information may also be obtained from the EPA Safe Drinking Water Hotline. Callers within the United States may reach the Hotline at (800) 426-4791. The Hotline is open Monday through Friday, excluding federal holidays, from 9:00 a.m. to 5:30 p.m. Eastern Time.

SUPPLEMENTARY INFORMATION: To ensure that EPA can read, understand and therefore properly respond to comments, the Agency would prefer that commenters cite, where possible, the paragraph(s) or sections in the notice or supporting documents to which each comment refers. Commenters should use a separate paragraph for each issue discussed.

Commenters who want EPA to acknowledge receipt of their comments should enclose a self-addressed, stamped envelope. No facsimiles (faxes) will be accepted. Comments may also be submitted electronically to ow-docket@epamail.epa.gov. Electronic comments must be submitted as an ASCII file avoiding the use of special characters and any form of encryption. Electronic comments must be identified by the docket number W-99-19. Comments and data will also be accepted on disks in WordPerfect in 5.1 format or ASCII file format. Electronic comments on this document may be filed online at many Federal Depository Libraries.

This document concerns the Unregulated Contaminant Monitoring Regulation for Public Water Systems; Analytical Methods for Perchlorate and Acetochlor; Announcement of Laboratory Approval and Performance Testing (PT) Program for the Analysis of Perchlorate. For further information, please see the information provided in the direct final rule published elsewhere in this issue of the Federal Register.

List of Subjects in 40 CFR Part 141

Environmental protection, Chemicals, Incorporation by reference, Indian-lands, Intergovernmental relations, Reporting and recordkeeping requirements, Water supply.

Dated: February 23, 2000.
Carol M. Browner,
Administrator.

[FR Doc. 00-4762 Filed 3-1-00; 8:45 am]

BILLING CODE 6560-50-P